DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2018, through May 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the table, or

b. “[S]ustained, or had significantly aggravated, any illness, disability, injury, or condition set forth in the Vaccine Injury Table the first symptom or manifestation of the onset or significant aggravation of which did not occur within the time period set forth in the table but which was caused by a vaccine” referred to in the table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: June 19, 2018.
George Sigounas,
Administrator.

List of Petitions Filed

1. Emily Jahn, Millbury, Massachusetts, Court of Federal Claims No: 18-0613V

2. Kathy Macaluso, Naples, Florida, Court of Federal Claims No: 18-0614V

3. Jason Fey and Heather Fey on behalf of E.P.F., Hudson, Wisconsin, Court of Federal Claims No: 18-0615V

4. Jeanne Rudzki, Jefferson, Louisiana, Court of Federal Claims No: 18-0617V

5. Michael Schwarz, Walla Walla, Washington, Court of Federal Claims No: 18-0619V

6. Ernest Perkins, Salt Lake City, Utah, Court of Federal Claims No: 18-0620V

7. Sally Musulin, Cranberry, Pennsylvania, Court of Federal Claims No: 18-0621V

8. Katherine L. Alberino, Medford, Massachusetts, Court of Federal Claims No: 18-0622V

9. Timothy W. Massa, La Grange, Georgia, Court of Federal Claims No: 18-0623V

10. Joseph Davis, Auburn, California, Court of Federal Claims No: 18-0624V

11. Tesalia Lyons on behalf of G.L., Douglasville, Georgia, Court of Federal Claims No: 18-0625V

12. Matthew T. Manley, Greensboro, North Carolina, Court of Federal Claims No: 18-0626V

13. Sherri Paige, Willimantic, Connecticut, Court of Federal Claims No: 18-0627V

14. Marie Aagotnes, New York, New York, Court of Federal Claims No: 18-0631V

15. Arthur Renfro, Cheyenne, Wyoming, Court of Federal Claims No: 18-0632V

16. Thomas D. Taylor, Purcellville, Virginia, Court of Federal Claims No: 18-0633V

17. Alia J. Stone, Columbus, Ohio, Court of Federal Claims No: 18-0634V

18. Carrine Paulen, Big Rapids, Michigan, Court of Federal Claims No: 18-0635V

19. Lovely Varughese, Des Plaines, Illinois, Court of Federal Claims No: 18-0637V

20. Melissa K. Woinarowicz, Karlstad, Minnesota, Court of Federal Claims No: 18-0639V

21. Adam Crispo, Jersey City, New Jersey, Court of Federal Claims No: 18-0640V

22. Cynthia Peterson, Bronx, New York, Court of Federal Claims No: 18-0641V

23. Debra Juno, Yardley, Pennsylvania, Court of Federal Claims No: 18-0643V

24. Fawne Adams, Frederick, Maryland, Court of Federal Claims No: 18-0644V

25. Juliet Ley, Canonsburg, Pennsylvania, Court of Federal Claims No: 18-0645V

26. Keria Edwards, Toledo, Ohio, Court of Federal Claims No: 18-0646V

27. Frankie Reese, Hickory, North Carolina, Court of Federal Claims No: 18-0647V

28. Dana Ochsner, Olympia, Washington, Court of Federal Claims No: 18-0648V

29. Kimberly J. Little, Rochester, New York, Court of Federal Claims No: 18-0649V

30. Mary Stewart, Hattiesburg, Mississippi, Court of Federal Claims No: 18-0650V

31. Ida E. Sondy, Mountain Home, Arkansas, Court of Federal Claims No: 18-0651V

32. Jill Corsiglia, Aptos, California, Court of Federal Claims No: 18-0652V

33. Helen Kearns, Clinton, North Carolina, Court of Federal Claims No: 18-0654V

34. Beverly Schick-Cowell, Sylvania, Ohio, Court of Federal Claims No: 18-0656V

35. Sue Ann Chamberlain, Pleasant Grove, Utah, Court of Federal Claims No: 18-0658V

36. Judy Welch, Lapeer, Michigan, Court of Federal Claims No: 18-0660V

37. Brent Pyles, Georgetown, Kentucky, Court of Federal Claims No: 18-0662V

38. Kristina Link, Grand Rapids, Michigan, Court of Federal Claims No: 18-0663V

39. Brooke Konsky, Newark, Delaware, Court of Federal Claims No: 18-0666V

40. Heather Sheehan, Madison, Wisconsin, Court of Federal Claims No: 18-0668V

41. Linda Serra, Springfield, Illinois, Court of Federal Claims No: 18-0672V

42. Paula Rosselet, Spokane, Washington, Court of Federal Claims No: 18-0674V

43. Bradley Haag, Pickering, Ohio, Court of Federal Claims No: 18-0675V

44. Marian Williams, Jacksonville, Florida, Court of Federal Claims No: 18-0676V

45. Douglas Billing, Wichita Falls, Texas, Court of Federal Claims No: 18-0679V

46. Cecelia Keller, Upland, Pennsylvania, Court of Federal Claims No: 18-0680V

47. David Christian Kunz, Nibley, Utah, Court of Federal Claims No: 18-0681V

48. Merrick Brunker, Ventura, California, Court of Federal Claims No: 18-0683V

49. Bonnie Mahayni, Midlothian, Virginia, Court of Federal Claims No: 18-0684V

50. Elizabeth Tregillus, Washington, District of Columbia, Court of Federal Claims No: 18-0688V

51. Jeffrey Strain, Sacramento, California, Court of Federal Claims No: 18-0689V

52. Maria Turkson, Harrisburg, Pennsylvania, Court of Federal Claims No: 18-0690V

53. Laura Guerrie, Tujunga, California, Court of Federal Claims No: 18-0692V

54. Flint Allen, Hill City, Kansas, Court of Federal Claims No: 18-0693V

55. Chad Sheller on behalf of Daniel E. Sheller, Deceased, Santa Maria, California, Court of Federal Claims No: 18-0696V

56. Lari Talbert, Shreveport, Louisiana, Court of Federal Claims No: 18-0699V

57. Robert G. Baker, Rock Hill, North Carolina, Court of Federal Claims No: 18-0701V

58. Randy Leblanc, Salt Lake City, Utah, Court of Federal Claims No: 18-0702V

59. Jill Longworth, St. Louis, Missouri, Court of Federal Claims No: 18-0703V

60. Kevin Radford, Alpharetta, Georgia, Court of Federal Claims No: 18-0704V

61. Judith Bohnenkamp, O'Fallon, Missouri, Court of Federal Claims No: 18-0709V

62. Gerard L. Muensterman on behalf of Cletus J. Muensterman, Deceased, Evansville, Indiana, Court of Federal Claims No: 18-0714V

63. Claudette Guerrero, Edinburg, Texas, Court of Federal Claims No: 18-0716V

64. Sheila Chille, Niagara Falls, New York, Court of Federal Claims No: 18-0718V

65. Alice Lawler, Oak Harbor, Washington, Court of Federal Claims No: 18-0719V

66. Patricia Wright, La Marque, Texas, Court of Federal Claims No: 18-0720V

67. Gerald Jansen, Newport, Pennsylvania, Court of Federal Claims No: 18-0722V

68. Bethanne Hull, Titusville, Florida, Court of Federal Claims No: 18-0723V

69. Sheena Schmacht on behalf of H.S., Silvis, Illinois, Court of Federal Claims No: 18-0724V

70. David M. Roberts, Sioux City, Iowa, Court of Federal Claims No: 18-0725V

71. Judith A. Bridges, St. Charles, Missouri, Court of Federal Claims No: 18-0726V

72. Barbara Murray, Orlando, Florida, Court of Federal Claims No: 18-0728V

73. Vicki Havel, Rockwall, Texas, Court of Federal Claims No: 18-0729V

74. Silvia Hernandez, Washington, District of Columbia, Court of Federal Claims No: 18-0731V

75. Charles Williams, Oroville, California, Court of Federal Claims No: 18-0732V

76. James Seylaz, Bridgewater, New Jersey, Court of Federal Claims No: 18-0733V

77. Laurel Ostiguy, Marlborough, Massachusetts, Court of Federal Claims No: 18-0736V

78. Kathleen Spain, Las Vegas, Nevada, Court of Federal Claims No: 18-0737V

79. Staci McTeigue, Alpharetta, Georgia, Court of Federal Claims No: 18-0740V

80. Jackie Johns, Marshfield, Missouri, Court of Federal Claims No: 18-0741V

81. Erica Schofield, Missoula, Montana, Court of Federal Claims No: 18-0742V

82. Rocco E. Moat, Milwaukee, Wisconsin, Court of Federal Claims No: 18-0743V

83. Raymond Spornhauer, Lufkin, Texas, Court of Federal Claims No: 18-0744V

84. Janice Hodgett, Kewanee, Illinois, Court of Federal Claims No: 18-0745V

85. Carol D'Angelo, Philadelphia, Pennsylvania, Court of Federal Claims No: 18-0747V

86. Cami Perry, Aurora, Colorado, Court of Federal Claims No: 18-0748V

87. Carol Vorwerck, Towson, Maryland, Court of Federal Claims No: 18-0749V

88. Georgia Derr on behalf of M.D., Harrisburg, North Carolina, Court of Federal Claims No: 18-0751V

89. Sheri Henning, Owasso, Oklahoma, Court of Federal Claims No: 18-0752V

90. Patricia Gauthier, Tonasket, Washington, Court of Federal Claims No: 18-0753V

91. Roderick Sanders, Conyers, Georgia, Court of Federal Claims No: 18-0754V

92. Derek Grace, Dayton, Ohio, Court of Federal Claims No: 18-0757V

93. Sarah Flores and Ryan C. Flores on behalf of M.F., Houston, Texas, Court of Federal Claims No: 18-0759V

94. David Daniel, Houston, Texas, Court of Federal Claims No: 18-0760V

95. Raymond Bielak, St. George, Utah, Court of Federal Claims No: 18-0761V

96. Tori Dreyer, Topeka, Kansas, Court of Federal Claims No: 18-0764V

97. Mark D. Scarlette, Greensboro, North Carolina, Court of Federal Claims No: 18-0766V

98. James Louis, Lisbon, Connecticut, Court of Federal Claims No: 18-0767V

99. Dayane Penderis, Pasadena, California, Court of Federal Claims No: 18-0768V

100. Kathleen Cooper-Loher, Marshfield, Wisconsin, Court of Federal Claims No: 18-0769V

101. Kerstina Alexander on behalf of M.A., Deceased, Woodbridge, Illinois, Court of Federal Claims No: 18-0770V

102. Henry Milligan, Jr., Orlando, Florida, Court of Federal Claims No: 18-0771V

103. Cheryl Thompson, South Bend, Indiana, Court of Federal Claims No: 18-0772V

104. Olivia Gallegos, Fresno, California, Court of Federal Claims No: 18-0773V

105. Jacie Albanez and Mario Albanez on behalf of N.A., San Diego, California, Court of Federal Claims No: 18-0774V

106. Scott Kelbick, Avondale, Arizona, Court of Federal Claims No: 18-0775V

107. Elizabeth Phenneger, Spokane, Washington, Court of Federal Claims No: 18-0776V

[FR Doc. 2018-13593 Filed 6-25-18; 8:45 am]

BILLING CODE 4165-15-P